DEPARTMENT OF HEALTH AND HUMAN SERVICES

Indian Health Service

[Assistance Listing Number 93.933]

Awards Unsolicited Proposal for the Health Communication Initiative Program

AGENCY: Office of Clinical and Preventive Services, Indian Health Service, Department of Health and Human Services.

ACTION: Notice of award of a single-source unsolicited grant to Johns Hopkins University in Baltimore, Maryland.

Recipient: Johns Hopkins University, Baltimore, Maryland.

Purpose of the Award: Cooperative agreement to collect, develop, package and distribute information to American Indian and Alaska Native (AI/AN) communities to address the coronavirus disease 2019 (COVID-19)-specific recommendations on healthcare, in a culturally sensitive way.

Amount of Award: $127,644 in Fiscal Year (FY) 2020.

Period of Performance: April 24, 2020-August 24, 2020.

SUMMARY: The Office of Clinical and Preventive Services (OCPS) announces the award of a single-source cooperative agreement in response to an unsolicited proposal from Johns Hopkins University, Baltimore, Maryland. The proposal submitted was not solicited either formally or informally by any federal government official.

OCPS performed an objective review of the unsolicited proposal from Johns Hopkins University (JHU) to develop information on proper actions to mitigate the spread of COVID-19, in a culturally sensitive way. The Johns Hopkins Bloomberg School of Public Health (JHSPH) Center for American Indian Health (CAIH) mission is to work in partnerships with AI/AN communities to raise their health status, self-sufficiency, and health leadership to the highest possible level. This mission is accomplished through research, training and education, and service. The CAIH has more than nine facilities and approximately 100 staff in the Southwestern tribal communities to assist the Indian Health Service (IHS) in containing and mitigating COVID-19, while building a response model and set of communication materials for all IHS regions nationwide. The CAIH can draw on broad expertise from JHU for additional guidance and recommendations on best practices as the situation evolves.

The materials will be developed from the Centers for Disease Control and Prevention (CDC) and the Substance Abuse and Mental Health Services Administration (SAMHSA) guidance. Based on an internal review of the proposal and the immediate response of the IHS to address the COVID-19 public health emergency, OCPS determined that the proposal has merit.

The long history between the federal government and Native American Tribes and people has often been less than ideal. There are still barriers to the Native American community accepting instruction or direction from the federal government. There is great value in having a third party that has a good history with the community to gather, package and deliver recommendations, in a culturally sensitive way, on staying safe from this disease, when those recommendations may run contrary to cultural norms. This delivery avenue will be more acceptable to the community, and will be more readily recognized for implementation within AI/AN communities.

This award is being made noncompetitively because there is no current, pending, or planned funding opportunity announcement under which this proposal could be competed. OCPS has identified two additional key reasons to support rationale for awarding this unsolicited proposal:

1. The JHU CAIH is well known in the AI/AN communities for robust communication/messaging networks, research, training, and subject matter expertise. The dissemination of critical COVID-19 information for tribal communities builds trust, credibility, and integrity of promoting a culturally sensitive public health approach around the information.

2. The JHU CAIH is uniquely positioned to provide culturally specific subject matter expertise drawn from a direct care services or “boots on the ground” approach. The CAIH has nearly 40 years of collaboration with Native American tribes and supports public health interventions in more than 140 tribal communities in over 21 states. The breadth of knowledge and existing partnerships will enhance dissemination of information nationally.

Legislative Authority: The Snyder Act, 25 U.S.C. Section 13; the Indian Health Care Improvement Act, 25 U.S.C. Section 1621b; and Coronavirus Aid, Relief, and Economic Security (CARES) Act, Public Law 116-136.

FOR FURTHER INFORMATION CONTACT: Audrey Solimon at Audrey.Solimon@ihs.gov or by telephone at 301-590-5421.

Michael D. Weahkee,
RADM, Assistant Surgeon General, U.S. Public Health Service, Director, Indian Health Service.

[FR Doc. 2020-17516 Filed 8-12-20; 8:45 am]

BILLING CODE 4165-16-P